GENERAL SERVICES ADMINISTRATION

41 CFR Parts 301-11, 301-74, Appendix E to Chapter 301, 304-3, and 304-5

[FTR Case 2012-301; Docket 2012-0011, Sequence 1]

RIN 3090-AJ27

Federal Travel Regulation; Removal of Conference Lodging Allowance Provisions

AGENCY: Office of Governmentwide Policy, General Services Administration (GSA).

ACTION: Proposed rule.

SUMMARY: GSA is proposing to amend the Federal Travel Regulation (FTR) by removing the conference lodging allowance reimbursement option for employees on temporary duty (TDY) travel.

DATES: Interested parties should submit written comments to the Regulatory Secretariat at one of the addresses shown below on or before December 24, 2012 to be considered in the formation of the final rule.

ADDRESSES: Submit comments identified by FTR Case 2012-301 by any of the following methods:

• Federal eRulemaking Portals: http://www.regulations.gov. Submit comments via the Federal eRulemaking portal by searching for “FTR Case 2012-301”. Select the link “Submit a Comment” that corresponds with “FTR Case 2012-301.” Follow the instructions provided at the “Submit a Comment” screen. Please include your name, company name (if any), and “FTR Case 2012-301” on your attached document.

• Fax: 202-208-1398.

• Mail: General Services Administration, Regulatory Secretariat (MVCB), 1275 First Street NE., 7th Floor, Attn: Hada Flowers, Washington, DC 20417.

Instructions: Please submit comments only and cite FTR case 2012-301 in all correspondence related to this case. All comments received will be posted without change to http://www.regulations.gov, including any personal information provided.

FOR FURTHER INFORMATION CONTACT: For clarification of content, contact Mr. Cy Greenidge, Program Analyst, Office of Governmentwide Policy, at 202-219-2349. Please cite FTR case 2012-301. The Regulatory Secretariat (MVCB), 1275 First Street NE., 7th Floor, Attn: Hada Flowers, Washington, DC 20417, 202-501-4755, for information pertaining to status or publication schedules.

SUPPLEMENTARY INFORMATION:

A. Background

The conference lodging allowance allows travelers to exceed the maximum lodging per diem rate by up to 25 percent when attending conferences sponsored by a Federal agency. Unlike the actual expense provision which mandates that an agency official must approve these requests, there is no such mandate for allowing the use of the conference lodging allowance. To allow agencies to get a firmer grasp on how their travel dollars are used, GSA is proposing to remove the conference lodging allowance provision from the FTR.

B. Executive Order 12866 and Executive Order 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of Executive Order 12866, Regulatory Planning and Review, dated September 30, 1993. This proposed rule is not a major rule under 5 U.S.C. 804.

C. Regulatory Flexibility Act

This proposed rule will not have a significant economic impact on a substantial number of small entities within the meaning of the Regulatory Flexibility Act, 5 U.S.C. 601, et seq., because the revisions are not considered substantive. This proposed rule is also exempt from the Administrative Procedure Act per 5 U.S.C. 553(a)(2) because it applies to agency management or personnel. However, this proposed rule is being published to provide transparency in the promulgation of Federal policies.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This proposed rule is also exempt from Congressional review prescribed under 5 U.S.C. 801 since it relates solely to agency management and personnel.

List of Subjects in 41 CFR Parts 301-11, 301-74, Appendix E to Chapter 301, 304-3, and 304-5

Administrative practices and procedures, Government employees, Travel and per diem expenses, Acceptance of travel and related expenses from non-Federal sources.

Dated: June 22, 2012.
Dan Tangherlini,
Acting Administrator of General Services.

For the reasons set forth in the preamble, pursuant to 5 U.S.C. 5701-5709 and 31 U.S.C. 1353, GSA proposes to amend 41 CFR parts 301-11, 301-74, Appendix E to Chapter 301, 304-3, and 304-5 as set forth below:

PART 301-11—PER DIEM EXPENSES

1. The authority citation for 41 CFR part 301-11 continues to read as follows:

Authority: 5 U.S.C. 5707.

§ 301-11.5 [Amended]

2. Amend § 301-11.5 by—

a. Adding the word “or” at the end of paragraph (b);

b. Removing paragraph (c); and

c. Redesignating paragraph (d) as paragraph (c).

PART 301-74—CONFERENCE PLANNING

3. The authority citation for 41 CFR part 301-74 continues to read as follows:

Authority: 5 U.S.C. 5707.

4. Revise § 301-74.6 to read as follows:

§ 301-74.6 What can we do if we cannot find an appropriate conference facility at the chosen locality per diem rate?

While it is always desirable to obtain lodging facilities within the established lodging portion of the per diem rate for the chosen locality, it may not always be possible. In those instances when lodging is not available at the applicable per diem rate, travelers should construct a cost comparison of all associated costs, including round-trip ground transportation, between finding lodging at the applicable per diem rate away from the conference locality and using the actual expense method at the conference locality as prescribed in Subpart D of Part 301-11 of this chapter.

§§ 301-74.7 through 301-74.10, 301-74.12, 301.74-22, and 301-74.23 [Removed]

5. Remove §§ 301-74.7 through 301-74.10, 301-74.12, 301.74-22, and 301-74.23.

§§ 301-74.11, 301-74.13 through 301-74.19, and 301-74.24 through 301-74.26 [Redesignated as §§ 301-74.7, 301-74.8 through 301-74.14, and 301-74.22 through 301-74.24]

6. Redesignate §§ 301-74.11, 301-74.13 through 301-74.19, and 301-74.24 through 301-74.26 as §§ 301-74.7, 301-74.8 through 301-74.14, and 301-74.22 through 301-74.24, respectively. A redesignation table is set forth below for the convenience of the reader:

Old section No. | Redesignated section No.
301-74.11 | 301-74.7
301-74.13 | 301-74.8
301-74.14 | 301-74.9
301-74.15 | 301-74.10
301-74.16 | 301-74.11
301-74.17 | 301-74.12
301-74.18 | 301-74.13
301-74.19 | 301-74.14
301-74.24 | 301-74.22
301-74.25 | 301-74.23
301-74.26 | 301-74.24

§ 301-74.9 [Amended]

7. Amend the newly redesignated § 301-74.9 in the first sentence by removing “§ 301-74.15” and adding “§ 301-74.10” in its place.

§ 301-74.10 [Amended]

8. Amend the heading to the newly redesignated § 301-74.10 by removing “§ 301-74.14” and adding “§ 301-74.9” in its place.

9. Revise the newly designated § 301-74.11 to read as follows:

§ 301-74.11 What must be included in any advertisement or application form relating to conference attendance?

Any advertisement or application for attendance at a conference described in 301-74.9 must include notice of the prohibition against using a non-FEMA approved place of public accommodation for conferences. In addition, any executive agency, as defined in 5 U.S.C. 105, shall notify all non-Federal entities to which it provides Federal funds of this prohibition.

§ 301-74.12 [Amended]

10. Amend the newly redesignated § 301-74.12 by removing from the Note “§ 301-74.17(a)” and adding “§ 301-74.12(a)” in its place.

11. Revise the newly designated § 301-74.22 to read as follows:

§ 301-74.22 When should actual expense reimbursement be authorized for conference attendees?

You may authorize actual expenses under § 301-11.300 of this chapter when the applicable lodging rate is inadequate.

Appendix E to Chapter 301 [Amended]

12. Amend Appendix E to Chapter 301 by—

a. Under the heading “Terms” by removing the paragraph “Conference lodging allowance: The rate that is up to 25 percent above the established lodging per diem rate.”; and

b. Under the heading “Notification,” subheading “Announcement and/or Invitations,” by removing the paragraph “Notice that conference lodging allowance applies if applicable.”

PART 304-3—EMPLOYEE RESPONSIBILITY

13. The authority citation for 41 CFR part 304-3 continues to read as follows:

Authority: 5 U.S.C. 5707; 31 U.S.C. 1353.

§ 304-3.11 [Amended]

14. Amend § 304-3.11—

a. In the heading by removing “(per diem, actual expense, or conference lodging)” and adding “(per diem or actual expense)” in its place; and

b. In the introductory paragraph by removing “(per diem, actual expense, or conference lodging)” and adding “(per diem or actual expense)” in its place.

PART 304-5—AGENCY RESPONSIBILITIES

15. The authority citation for 41 CFR part 304-5 continues to read as follows:

Authority: 5 U.S.C. 5707; 31 U.S.C. 1353.

§ 304-5.4 [Amended]

16. Amend § 304-5.4—

a. In the heading by removing “(per diem, actual expense, or conference lodging)” and adding “(per diem or actual expense)” in its place; and

b. In paragraph (a), in the introductory paragraph by removing “(per diem, actual expense, or conference lodging)” and adding “(per diem or actual expense)” in its place.

[FR Doc. 2012-25893 Filed 10-22-12; 8:45 am]

BILLING CODE 6820-14-P